DEPARTMENT OF AGRICULTURE

Food and Nutrition Service

Agency Information Collection Activities: Proposed Collection; Comment Request—State Administrative Expense Funds Regulations

AGENCY: Food and Nutrition Service, USDA.

ACTION: Notice.

SUMMARY: In accordance with the Paperwork Reduction Act of 1995, this notice invites the general public and other public agencies to comment on the proposed information collections. The proposed collection is a revision of a currently approved collection related to State administrative expense funds expended in the operation of the Child Nutrition Programs administered under the Child Nutrition Act of 1966.

DATES: Written comments must be submitted on or before August 4, 2008.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical, or other technological collection techniques or other forms of information technology.

Comments may be sent to: Ms. Melissa Rothstein, Chief, Program Analysis and Monitoring Branch, Child Nutrition Division, Food and Nutrition Service, U.S. Department of Agriculture, 3101 Park Center Drive, Room 636, Alexandria, Virginia 22302. Comments will also be accepted through the Federal eRulemaking Portal. Go to http://www.regulations.gov, and follow the online instructions for submitting comments electronically.

All written comments will be open for public inspection at the office of Food and Nutrition Service during regular business hours (8:30 a.m. to 5 p.m., Monday through Friday) at 3101 Park Center Drive, Alexandria, Virginia 22302, Room 640.

All responses to this notice will be summarized and included in the request for OMB approval, and will become a matter of public record.

FOR FURTHER INFORMATION CONTACT: Requests for additional information or copies of this information collection form and instruction should be directed to Ms. Melissa Rothstein at (703) 305-2590.

SUPPLEMENTARY INFORMATION:

Title: State Administrative Expense Funds Regulations.

OMB Number: 0584-0067.

Form Number(s): FNS-74, FNS-525.

Expiration Date: October 31, 2008.

Type of Request: Extension of a currently approved collection.

Abstract: Section 7 of the Child Nutrition Act of 1966 (Pub. L. 89-642), 42 U.S.C. 1776, authorizes the Department to provide Federal funds to State Agencies (SAs) for administering the Child Nutrition Programs. State Administrative Expense Funds (SAE), 7 CFR Part 235, sets forth procedures and recordkeeping requirements for use by SAs in reporting and maintaining records of their needs and uses of SAE funds.

Affected Public: State Agencies.

Estimated Number of Respondents: 87 respondents.

Average Number of Responses per Respondent: 2,052 responses.

Estimated Time per Response: 2.27 hours.

Estimated Total Annual Burden on Respondents: 14,783 burden hours.

Dated: May 29, 2008.
Thomas J. O'Connor,
Acting Administrator, Food and Nutrition Service.

[FR Doc. E8-12411 Filed 6-3-08; 8:45 am]

BILLING CODE 3410-30-P